DEPARTMENT OF JUSTICE

Notice of Lodging of Consent Decree Under the Clean Water Act

Notice is hereby given that on July 1, 2003, a proposed Consent Decree in United States, et al. v. Billabong II ANS, Civil No. 2:03-2157-18, was lodged with the United States District Court for the District of South Carolina, Charleston Division.

In this action the United States and the State of South Carolina sought natural resource damages for injuries to natural resources arising from a spill of fuel oil from the Motor Vessel STAR EVVIVA into the Atlantic Ocean off of the coast of South Carolina on or about January 14, 1999. The defendant is Billabong II ANS, the owner of the Motor Vessel STAR EVVIVA.

Under the terms of the proposed settlement, the Settlor will pay $95,207 to the United states and $28,847 to the State of South Carolina as reimbursement for damage assessment costs and will pay $1,875,946 into an account established within the Department of the Interior's Natural Resource Damage Assessment and Restoration Account. The funds paid into the Restoration Account will be held in that account to pay costs to be incurred by the United States and the State of South Carolina for restoring, rehabilitating, replacing, or acquiring the equivalent of the natural resources injured by the spill.

The Department of Justice will receive for a period of thirty (30) days from the date of this publication, comments relating to the Consent Decree. Comments should be addressed to the Assistant Attorney General, Environment and Natural Resources Division, PO Box 7611, U.S. Department of Justice, Washington, DC 20044-7611, and should refer to United States, et al. v. Billabong II ANS, D.J. Ref. 90-5-1-1-07114.

The Consent Decree may be examined at the Office of the United States Attorney, Joseph P. Griffith, Jr., Assistant U.S. Attorney, PO Box 978, 151 Meeting Street, Suite 200, Charleston, SC 29402. During the public comment period, the Consent Decree may also be examined on the following Department of Justice Web site, http://www.usdoj.gov/enrd/open.html. A copy of the Consent Decree may also be obtained by mail from the Consent Decree Library, PO Box 7611, U.S. Department of Justice, Washington, DC 20044-7611, or by faxing or e-mailing a request to Tonia Fleetwood (tonia.fleetwood@usdoj.gov), fax no. (202) 616-6584, phone confirmation number (202) 514-1547. In requesting a copy, please enclose a check in the amount of $4.50 (18 pages at 25 cents per page reproduction cost) payable to the U.S. Treasury.

Ellen Mahan,
Assistant Section Chief, Environmental Enforcement Section, Environment and Natural Resources Division.

[FR Doc. 03-18050 Filed 7-16-03; 8:45 am]

BILLING CODE 4410-15-M